ENVIRONMENTAL PROTECTION AGENCY

[EPA-HQ-OPP-2009-1017; FRL-9909-40]

Notice of Receipt of Requests To Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. EPA intends to grant these requests at the close of the comment period for this announcement unless the Agency receives substantive comments within the comment period that would merit its further review of the requests, or unless the registrants withdraw their requests. If these requests are granted, any sale, distribution, or use of products listed in this notice will be permitted after the registrations have been cancelled only if such sale, distribution, or use is consistent with the terms as described in the final order. For those end-use products listed in Table 2 of Unit II, the cancellations will be effective December 31, 2016, as described in Unit II.

DATES: Comments must be received on or before June 19, 2014.

ADDRESSES: Submit your comments, identified by docket identification (ID) number EPA-HQ-OPP-2009-1017, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal request by mail to: Pesticide Re-Evaluation Division (7508P), Office of Pesticide Programs, Environmental Protection Agency, 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the agency taking?

This notice announces receipt by the Agency of requests from registrants to cancel 63 pesticide products registered under FIFRA section 3 or 24(c). These registrations are listed in sequence by registration number (or company number and 24(c) number) in Table 1 and Table 2 of this unit.

Unless the Agency determines that there are substantive comments that warrant further review of the requests or the registrants withdraw their requests, EPA intends to issue an order in the Federal Register canceling all of the affected registrations.

Table 1—Registrations With Pending Requests for Cancellation
Registration No. | Product name | Chemical name
000264-00805 | Thiacloprid Technical Insecticide | Thiacloprid.
000264-00806 | Calypso 4 Flowable Insecticide | Thiacloprid.
000352-00593 | Accent Gold Herbicide | Clopyralid, Nicosulfuron, Rimsulfuron and Flumetsulam.
000352-00612 | DuPont Accent Gold WDG Herbicide | Clopyralid, Nicosulfuron, Rimsulfuron and Flumetsulam.
000352-00792 | DuPont DPX-KJM44 80XP Turf Herbicide | Aminocyclopyrachlor methyl ester.
000352-00794 | DuPont DPX-MAT28 50SG Turf Herbicide | Aminocyclopyrachlor.
000352-00797 | DuPont DPX-KJM44 0.064G Turf Herbicide + Fertilizer | Aminocyclopyrachlor methyl ester.
000352-00800 | DuPont DPX-KJM44 0.073G Lawn Herbicide + Fertilizer | Aminocyclopyrachlor methyl ester.
000352-00803 | DuPont DPX-KJM44 0.053G Lawn Herbicide + Fertilizer | Aminocyclopyrachlor methyl ester.
000352-00804 | DuPont DPX-KJM44 0.049G Lawn Herbicide + Fertilizer | Aminocyclopyrachlor methyl ester.
000352-00807 | DuPont DPX-KJM44 0.033G Lawn Herbicide + Fertilizer | Aminocyclopyrachlor methyl ester.
000352-00811 | DuPont DPX-KJM44 0.02G Lawn Herbicide + Fertilizer | Aminocyclopyrachlor methyl ester.
000352-00813 | DuPont DPX-MAT28 0.05G Turf Herbicide + Fertilizer | Aminocyclopyrachlor.
000352-00814 | DuPont DPX-MAT28 0.03G Turf Herbicide + Fertilizer | Aminocyclopyrachlor.
000352-00815 | DuPont DPX-MAT28 0.068G Lawn Herbicide + Fertilizer | Aminocyclopyrachlor.
000432-01362 | Premise 0.5 SC | Imidacloprid.
000464-00662 | S.S.T. Sump Saver Tablets | 2-(Hydroxymethyl)-2-nitro-1,3-propanediol.
001270-00255 | Zep Flush 'N Kill DM | S-Bioallethrin and Deltamethrin.
001448-00379 | Busan 2020F | Poly(oxy-1,2-ethanediyl(dimethylimino)-1,2-ethanediyl(dimethylimino)-1,2-ethanediyl dichloride).
001448-00380 | Busan 2020 | Poly(oxy-1,2-ethanediyl(dimethylimino)-1,2-ethanediyl(dimethylimino)-1,2-ethanediyl dichloride).
001448-00396 | WSKT | Poly(oxy-1,2-ethanediyl(dimethylimino)-1,2-ethanediyl(dimethylimino)-1,2-ethanediyl dichloride) and 5-Chloro-2-methyl-3(2H)-isothiazolone and 2-Methyl-3(2H)-isothiazolone.
001448-00397 | Busan 1174 | Poly(oxy-1,2-ethanediyl(dimethylimino)-1,2-ethanediyl(dimethylimino)-1,2-ethanediyl dichloride) and 5-Chloro-2-methyl-3(2H)-isothiazolone and 2-Methyl-3(2H)-isothiazolone.
001448-00400 | PCA 10 | Poly(oxy-1,2-ethanediyl(dimethylimino)-1,2-ethanediyl(dimethylimino)-1,2-ethanediyl dichloride).
008033-00012 | Equinox Herbicide | Tepraloxydim.
008033-00013 | BAS 620 H MUP | Tepraloxydim.
010163-00279 | Milbemectin Technical Miticide/Insecticide | Milbemectin (A mixture of >=70% Milbemycin A4, & <=30% Milbemycin A3).
010163-00280 | Ultiflora Miticide/Insecticide | Milbemectin (A mixture of >=70% Milbemycin A4, & <=30% Milbemycin A3).
028293-00167 | Unicorn Residual House and Carpet Spray | Bioallethrin, MGK 264 and Permethrin.
028293-00192 | Unicorn House and Carpet Spray #5 | Bioallethrin, MGK 264, Piperonyl butoxide and Esfenvalerate.
028293-00196 | Unicorn House and Carpet Spray #6 | Bioallethrin, MGK 264, Piperonyl butoxide and Esfenvalerate.
028293-00332 | Unicorn Flying & Crawling Insect Killer IV | S-Bioallethrin and Deltamethrin.
028293-00334 | Unicorn Flying & Crawling Insect Killer V | S-Bioallethrin and Deltamethrin.
028293-00336 | Unicorn Flying & Crawling Insect Killer III | S-Bioallethrin and Deltamethrin.
054382-00003 | Taktic Emulsifiable Concentrate Miticide/Insecticide | Amitraz.
066330-00295 | Iprodione Technical 97.5% | Iprodione.
066330-00329 | Iprodione Technical 98% | Iprodione.
067071-00053 | Acticide MKW 1 | Octhilinone and Carbamic acid, butyl-, 3-iodo-2-propynyl ester and Diuron.
070627-00071 | Raid Institutional Flying Insect Killer | d-Allethrin, Phenothrin and Tetramethrin.
071368-00062 | Assert Herbicide | Imazamethabenz.
071368-00063 | Assert Herbicide Technical | Imazamethabenz.
075630-00001 | Zinc Borate | Zinc borate (3ZnO, 2B03, 3.5H2O; mw 434.66).
083558-00020 | Mepiquat Chloride Technical | Mepiquat chloride.
085678-00027 | Iprodione Technical | Iprodione.
087290-00014 | Willowood Imidacloprid 4SC | Imidacloprid.
087290-00021 | Willowood Imidacloprid 2SC | Imidacloprid.
ME030004 | Accord Concentrate | Glyphosate-isopropylammonium.
ME980001 | Confirm 2F Insecticide | Tebufenozide.

The allethrin series of pyrethroid insecticides include the following: Bioallethrin, esbiol, esbiothrin, and pynamin forte. The technical registrants for the allethrins, Sumitomo Chemical Company Limited and Valent BioSciences Corporation, cancelled all of the allethrins technical products effective September 30, 2015 and cancelled their allethrins end-use product registrations effective December 31, 2016. Furthermore, Valent and Sumitomo requested that use of their technical products to formulate end-use products not be permitted after December 31, 2015. A final Cancellation Order was published in the Federal Register issue of April 24, 2013 (78 FR 74195). Because the allethrins technical products have been cancelled, several other registrants for allethrins end-use products have requested cancellation with dates consistent with those specified for the Valent and Sumitomo allethrins end-use products. The cancellation of the end-use products listed in Table 2 are requested to be effective December 31, 2016.

Table 2—Registrations With Pending Requests for Cancellation Effective December 31, 2016
Registration No. | Product name | Chemical name
000004-00461 | Bonide Crawling Insect Killer | Deltamethrin and S-Bioallethrin.
000498-00167 | SprayPak Ant & Roach Killer Formula 2 With Esfenvalerate | Bioallethrin, MGK 264, Piperonyl butoxide and Esfenvalerate.
000498-00192 | Champion Sprayon Flying & Crawling Insect Killer Formula II | S-Bioallethrin and Deltamethrin.
000499-00362 | Whitmire PT 515 Wasp-Freeze Wasp and Hornet Killer | Bioallethrin and Phenothrin.
003095-00026 | PIC Mosquito Repellent Coils | d-Allethrin.
004822-00283 | Raid House and Garden Bug Killer Formula 7 | d-Allethrin and Phenothrin.
004822-00284 | Raid Formula 5 Flying Insect Killer | d-Allethrin, Piperonyl butoxide and Phenothrin.
004822-00469 | Repellent LMO | d-Allethrin.
004822-00501 | Snake II | Bioallethrin.
004822-00578 | H7A-US | Tetramethrin, Phenothrin and d-Allethrin.
004822-00580 | H7A-US HG | Tetramethrin, Phenothrin and d-Allethrin.
006218-00043 | Summit Mistocide-B | S-Bioallethrin, MGK 264 and Piperonyl butoxide.
009688-00256 | Chemsico Aerosol Insecticide DS | S-Bioallethrin and Deltamethrin.
009688-00306 | TAT Roach & Ant With Residual Action 2491 | Bioallethrin, MGK 264, Piperonyl butoxide and Esfenvalerate.
010807-00437 | Konk Insecticide Foam | Bioallethrin, MGK 264 and Permethrin.
070385-00004 | Microban X-590 Institutional Spray | Bioallethrin, MGK 264, o-Phenylphenol (NO INERT USE), Piperonyl butoxide and Benzenemethanaminium, N,N-dimethyl-N-(2-(2-(4-(1,1,3,3-tetramethylbutyl) phenoxy)ethoxy)ethyl)-, chloride.

Table 3 of this unit includes the names and addresses of record for all registrants of the products in Table 1 and Table 2 of this unit, in sequence by EPA company number. This number corresponds to the first part of the EPA registration numbers of the products listed in this unit.

Table 3—Registrants Requesting Voluntary Cancellation
EPA Company No. | Company name and address
4 | Bonide Products, Inc., Agent: Registrations By Design, Inc., P.O. Box 1019, Salem, VA 24153-3805.
264 | Bayer CropScience LP, 2 T.W. Alexander Dr., P.O. Box 12014, Research Triangle Park, NC 27709.
352 | E.I. DuPont De Nemours and Company (S300/419), 1007 Market St., Wilmington, DE 19898-0001.
432 | Bayer Environmental Science, A Division of Bayer CropScience LP, 2 T.W. Alexander Dr., P.O. Box 12014, Research Triangle Park, NC 27709.
464 | The Dow Chemical Co., Agent: The Dow Chemical Company, 100 Larkin Center, 1650 Joseph Dr., Midland, MI 48674.
498 | Chase Products Co., Putting The Best At Your Fingertips, P.O. Box 70, Maywood, IL 60153.
499 | Whitmire Micro-Gen Research Laboratories, Inc., Agent: BASF Corporation, 3568 Tree Court Industrial Blvd., St. Louis, MO 63122-6682.
1270 | Zep Inc., 1310 Seaboard Industrial Blvd., Atlanta, GA 30318.
1448 | Buckman Laboratories, Inc., 1256 North McLean Blvd., Memphis, TN 38108.
3095 | PIC Corporation, Agent: Product & Regulatory Associates, LLC, P.O. Box 1683, Voorhees, NJ 08043-9998.
4822 | S.C. Johnson & Son, Inc., 1525 Howe St., Racine, WI 53403.
6218 | Summit Chemical Co., Summit Responsible Solutions, 235 S. Kresson St., Baltimore, MD 21224.
8033 | Nippon Soda Co., LTD., Agent: Nisso America, Inc., 88 Pine St., 14th Floor, New York, NY 10005.
9688 | Chemsico, A Division of United Industries Corp., P.O. Box 142642, St. Louis, MO 63114-0642.
10163 | Gowan Company, P.O. Box 5569, Yuma, AZ 85366-5569.
10807 | Amrep, Inc., 990 Industrial Park Dr., Marietta, GA 30062.
28293 | Phaeton Corporation, D/B/A Unicorn Laboratories, Agent: Registrations By Design, Inc., P.O. Box 1019, Salem, VA 24153.
54382 | Intervet, Inc., D/B/A Merck Animal Health, 556 Morris Ave., S5-2145A, Summit, NJ 07901.
66330 | Arysta LifeScience North America, LLC, 15401 Weston Parkway, Suite 150, Cary, NC 27513.
67071 | Thor GmbH, Agent: Thor Specialties, Inc., 50 Waterview Dr., Shelton, CT 06484.
70385 | ProRestore Products, Agent: Lewis & Harrison, LLC, 122 C Street NW., Suite 505, Washington, DC 20001.
70627 | Diversey, Inc., 8310 16th Street, MS 707, Sturtevant, WI 53177.
71368 | Nufarm, Inc., Agent: Nufarm Americas, Inc., 4020 Aerial Center Parkway, Suite 1013, Morrisville, NC 27560.
75630 | Royce Associates, LP, 35 Carlton Ave., East Rutherford, NJ 07073.
83558 | Celsius Property B.V., Amsterdam (NL), Neuhausen A. RHF Branch, Agent: Makhteshim Agan of North America, INC., 3120 Highwoods Blvd., Suite 100, Raleigh, NC 27604.
85678 | RedEagle International, LLC, Agent: Wagner Regulatory Associates, Inc., P.O. Box 640, Hockessin, DE 19707-0640.
87290 | Willowood, LLC, Agent: Wagner Regulatory Associates, Inc., P.O. Box 640, Hockessin, DE 19707-0640.
ME030004, ME980001 | Dow AgroSciences, LLC, 9330 Zionsville Rd., 308/2E, Indianapolis, IN 46268-1054.

III. What is the Agency's authority for taking this action?

Section 6(f)(1) of FIFRA provides that a registrant of a pesticide product may at any time request that any of its pesticide registrations be cancelled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 1 and Table 2 of Unit II. have requested that EPA waive the 180-day comment period. Accordingly, EPA will provide a 30-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action.

A. All Products in Table 1 (Except 000264-00806, 008033-00012, 008033-00013, 054382-00003, 067071-00053, 071368-00062, 087290-00014, 087290-00021)

Because the Agency has identified no significant potential risk concerns associated with these pesticide products, upon cancellation of the products identified in Table 1 of Unit II., EPA anticipates allowing registrants to sell and distribute existing stocks of these products for 1 year after publication of the Cancellation Order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the cancelled products.

B. Product 000264-00806

Because the Agency has identified no significant potential risk concerns associated with this pesticide product, upon cancellation of the product identified in Table 1 of Unit II., EPA anticipates allowing registrants to sell and distribute existing stocks of this product for 1 year and 6 months after publication of the Cancellation Order in the Federal Register. Thereafter, registrants will be prohibited from selling or distributing the pesticide identified in Table 1 of Unit II., except for export consistent with FIFRA section 17 or for proper disposal. Persons other than registrants will generally be allowed to sell, distribute, or use existing stocks until such stocks are exhausted, provided that such sale, distribution, or use is consistent with the terms of the previously approved labeling on, or that accompanied, the cancelled product.

C. Product 071368-00062

Because the Agency has identified no significant potential risk concerns associated with this pesticide product, EPA anticipates allowing registrants to sell and distribute existing stocks of this product until December 31, 2015. Thereafter, registrants, and persons other than registrants, are prohibited from selling or distributing existing stocks of product containing imazamethabenz identified in Table 1 of Unit II., except for export consistent with FIFRA section 17 or for proper disposal. Existing stocks of product containing imazamethabenz already in the hands of users can be used legally until such stocks are exhausted, provided that the use is consistent with the terms of the previously approved labeling on, or that accompanied, the cancelled product.

D. Products (008033-00012, 008033-00013, 054382-00003, 067071-00053, 087290-00014 and 087290-00021)

Registrants have indicated to the Agency via letter and/or written response that due to the last manufacturing date, distribution date or the absence of marketing in the United States no further existing stocks provisions are necessary for them to sell and distribute their product(s). Persons other than registrants will generally be allowed to sell, distribute, or use existing stocks until such stocks are exhausted, provided that such sale, distribution, or use is consistent with the terms of the previously approved labeling on, or that accompanied, the cancelled products.

E. End-Use Products Listed in Table 2

Because the Agency has identified no significant potential risk concerns associated with the pesticide products listed in Table 2 of Unit II., EPA anticipates allowing registrants to sell and distribute these products until December 31, 2016. Thereafter, as of January 1, 2017, registrants will be prohibited from selling or distributing the pesticides identified in Table 2 of Unit II., except for export consistent with FIFRA section 17 or for proper disposal. Persons other than registrants will be allowed to sell, distribute, or use existing stocks until such stocks are exhausted, provided that such sale, distribution or use is consistent with the terms of the previously approved labeling on or that accompanied, the cancelled products.

List of Subjects

Environmental protection, Pesticides and pests.

Dated: May 12, 2014.
Richard P. Keigwin, Jr.,
Director, Pesticide Re-Evaluation Division, Office of Pesticide Programs.

[FR Doc. 2014-11685 Filed 5-19-14; 8:45 am]

BILLING CODE 6560-50-P